DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Comprehensive Socioeconomic Data Collection from Alaskan Communities.

OMB Control Number: None.

Form Number(s): NA.

Type of Request: Regular submission (new information collection).

Number of Respondents: 500.

Average Hours per Response: Survey, 1 hour. Initial and follow-up telephone calls, 6 minutes.

Burden Hours: 521.

Needs and Uses: This request is for a new information collection.

The purpose of this data collection program is to improve commercial fisheries socioeconomic data for North Pacific fisheries, using the community as the unit of reporting and analysis. The North Pacific Fishery Management Council (NPFMC), the Alaska Fisheries Science Center (AFSC), and community stakeholder organizations, have identified ongoing collection of community level economic and socioeconomic information, specifically related to commercial fisheries, as a priority. The proposed data collection will include information on community revenues based in the fisheries economy, population fluctuations, vessel expenditures in ports, fisheries infrastructure available in the community, support sector business operations in the community, community participation in fisheries management, effects of fisheries management decisions on the community, and demographic information on commercial fisheries participants from the community. The information collected in this program will capture the most relevant and pressing types of data needed for socioeconomic analyses of communities.

Affected Public: State, local or tribal government.

Frequency: Annually.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: January 10, 2011.
Gwellnar Banks,
Management Analyst, Office of the Chief Information Officer.

[FR Doc. 2011-589 Filed 1-12-11; 8:45 am]

BILLING CODE 3510-22-P